SECURITIES AND EXCHANGE COMMISSION

[File No. 500-1]

Thermo Tech Technologies Inc., T.V.G. Technologies Ltd., and Visual Frontier, Inc.; Order of Suspension of Trading

January 31, 2012.

It appears to the Securities and Exchange Commission that there is a lack of current and accurate information concerning the securities of Thermo Tech Technologies Inc. because it has not filed any periodic reports since the period ended April 30, 2000.

It appears to the Securities and Exchange Commission that there is a lack of current and accurate information concerning the securities of T.V.G. Technologies Ltd. because it has not filed any periodic reports since the period ended December 31, 2000.

It appears to the Securities and Exchange Commission that there is a lack of current and accurate information concerning the securities of Visual Frontier, Inc. because it has not filed any periodic reports since the period ended September 30, 2004.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 31, 2012, through 11:59 p.m. EST on February 13, 2012.

By the Commission.
Jill M. Peterson,
Assistant Secretary.

[FR Doc. 2012-2411 Filed 1-31-12; 11:15 am]

BILLING CODE 8011-01-P